DEPARTMENT OF DEFENSE

Office of the Secretary

Defense Advisory Committee on Military Personnel Testing; Notice of Federal Advisory Committee Meeting; Cancellation

AGENCY: Under Secretary of Defense for Personnel and Readiness, Department of Defense (DoD).

ACTION: Notice of Federal Advisory Committee Meeting; cancellation.

SUMMARY: On February 20, 2020, the Department of Defense (DoD) published a notice that announced the next meeting of the Defense Advisory Committee on Military Personnel Testing (“the Committee”), which was scheduled for Tuesday, March 24, 2020 from 9:00 a.m. to 4:45 p.m. and Wednesday, March 25, 2020 from 9:00 a.m. to 1:30 p.m. DoD is publishing this notice to announce that this federal advisory committee meeting has been cancelled and will be re-scheduled at a later date.

DATES: Committee Meeting; Cancellation.

Day 1: March 24, 2020—Cancelled.

Day 2: March 25, 2020—Cancelled.

ADDRESSES: Not Applicable. Meeting is cancelled.

FOR FURTHER INFORMATION CONTACT: Sofiya Velgach, (703) 697-9271 (Voice), (703) 614-9272 (Facsimile), osd.pentagon.ousd-p-r.mbx.dacmpt@mail.mil (Email). Mailing address is Assistant Director, Accession Policy, Office of the Under Secretary of Defense for Personnel and Readiness, Room 3D1066, The Pentagon, Washington, DC 20301-4000.

SUPPLEMENTARY INFORMATION: Due to circumstances beyond the control of the Department of Defense and the Designated Federal Officer, the Defense Advisory Committee on Military Personnel Testing was unable to provide public notification required by 41 CFR 102-3.150(a) concerning the cancellation of the previously noticed meeting for March 24, 2020—March 25, 2020. Accordingly, the Advisory Committee Management Officer for the Department of Defense, pursuant to 41 CFR 102-3.150(b), waives the 15-calendar day notification requirement.

On February 20, 2020 (85 FR 9751-9752), the DoD published a notice that announced the next meeting of the Defense Advisory Committee on Military Personnel Testing, which was scheduled for Tuesday, March 24, 2020 from 9:00 a.m. to 4:45 p.m. and Wednesday, March 25, 2020 from 9:00 a.m. to 1:30 p.m. DoD is publishing this notice to announce that this federal advisory committee meeting has been cancelled and will be re-scheduled at a later date. The rescheduled meeting will be announced in the Federal Register.

Dated: March 17, 2020.
Aaron T. Siegel,
Alternate OSD Federal Register Liaison Officer, Department of Defense.

[FR Doc. 2020-05952 Filed 3-20-20; 8:45 am]

BILLING CODE 5001-06-P